NUCLEAR REGULATORY COMMISSION

[NRC-2019-0091]

Leakage Tests on Packages for Shipment of Radioactive Material

AGENCY: Nuclear Regulatory Commission.

ACTION: Regulatory guide; issuance.

SUMMARY: The U.S. Nuclear Regulatory Commission (NRC) is issuing Revision 2 to Regulatory Guide (RG) 7.4, “Leakage Tests on Packages for Shipment of Radioactive Material.” This RG (Revision 2) endorses the methods and procedures developed by the Standards Committee on Packaging and Transportation of Radioactive and Nonnuclear Hazardous Materials, N14 Subcommittee of the American National Standards Institute (ANSI) in ANSI N14.5-2014, “American National Standard for Radioactive Materials—Leakage Tests on Packages for Shipment,” dated June 19, 2014.

DATES: Revision 2 to RG 7.4 is available on July 8, 2020.

ADDRESSES: Please refer to Docket ID NRC-2019-0091 when contacting the NRC about the availability of information regarding this document. You may obtain publicly-available information related to this document using any of the following methods:

• Federal Rulemaking Website: Go to https://www.regulations.gov and search for Docket ID NRC-2019-0091. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

Regulatory guides are not copyrighted, and NRC approval is not required to reproduce them.

FOR FURTHER INFORMATION CONTACT: JoAnn Ireland, Office of Nuclear Material Safety and Safeguards, telephone: 301-415-6950, email: JoAnn.Ireland@nrc.gov and Harriet Karagiannis, Office of Nuclear Regulatory Research, telephone: 301-415-2493, email: Harriet.Karagiannis@nrc.gov, U.S. Nuclear Regulatory Commission, Washington, DC 20555-0001.

SUPPLEMENTARY INFORMATION:

I. Discussion

The NRC issues RGs to describe methods that are acceptable to the staff for implementing specific parts of the agency's regulations, to explain techniques that the staff uses in evaluating specific issues or postulated events, and to describe information that the staff needs in its review of applications for permits and licenses. Regulatory guides are not NRC regulations and compliance with them is not required. Methods and solutions that differ from those set forth in RGs are acceptable if supported by a basis for the issuance or continuance of a permit or license by the Commission.

Revision 2 of RG 7.4 was issued with a temporary identification of Draft Regulatory Guide, DG-7010. RG 7.4 (Revision 2) endorses an update to ANSI N14.5-2014, “American National Standard for Radioactive Materials—Leakage Tests on Packages for Shipment,” that has new information, corrections, and clarifications, to ensure integrity of radioactive material containers and to minimize the distribution of contamination to the environment.

II. Additional Information

The NRC published a notice of the availability of DG-7010 in the Federal Register on April 8, 2019 (84 FR 13969) for a 60-day public comment period. The public comment period closed on June 7, 2019, and the NRC received four comment documents. Public comments on DG-7010 and the staff responses to the public comments are available in ADAMS under Accession No. ML19240B379. Revision 2 to RG 7.4 and the regulatory analysis may be found in ADAMS under Accession Nos. ML19240B383 and ML20034F254, respectively.

III. Congressional Review Act

This RG is a rule as defined in the Congressional Review Act (5 U.S.C. 801-808). However, the Office of Management and Budget has not found it to be a major rule as defined in the Congressional Review Act.

IV. Backfitting, Forward Fitting, and Issue Finality

As discussed in Section D, “Implementation,” of RG 7.4, the NRC staff does not intend to use the guidance in this regulatory guide to support NRC staff actions in a manner that would constitute backfitting as that term is defined in section 50.109 of title 10 of the Code of Federal Regulations (10 CFR), “Backfitting,” and as described in NRC Management Directive 8.4, “Management of Backfitting, Forward Fitting, Issue Finality, and Information Requests,” nor does the NRC staff intend to use the guidance to affect the issue finality of an approval under 10 CFR part 52, “Licenses, Certifications, and Approvals for Nuclear Power Plants.” The staff also does not intend to use the guidance to support NRC staff actions in a manner that constitutes forward fitting as that term is defined and described in Management Directive 8.4.

Dated: July 1, 2020.
For the Nuclear Regulatory Commission.
Meraj Rahimi,
Chief, Regulatory Guidance and Generic Issues Branch, Division of Engineering, Office of Nuclear Regulatory Research.

[FR Doc. 2020-14621 Filed 7-7-20; 8:45 am]

BILLING CODE 7590-01-P